DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of the applications have been shown in earlier Federal Register publications, they are not repeated here. Requests for modifications of special permits (e.g., to provide for additional hazardous materials, packaging design changes, additional mode of transportation, etc.) are described in footnotes to the application number. Application numbers with the suffix “M” denote a modification request. These applications have been separated from the new applications for special permits to facilitate processing.

DATES: Comments must be received on or before July 7, 2008.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://dms.dot.gov.

This notice of receipt of applications for modification of special permit is published in accordance with part 107 of the Federal hazardous materials transportation law (49 U.S.C. 5117(b); 49 CFR 1.53(b)).

Issued in Washington, DC, on June 9, 2008.
Delmer F. Billings,
Director, Office of Hazardous Materials, Special Permits and Approvals.

Application No. | Docket No. | Applicant | Regulation(s) affected | Nature of special permit thereof
MODIFICATION SPECIAL PERMITS
7765-M |  | Carleton Technologies, Inc., Orchard Park, NY | 49 CFR 173.302(a)(4); 175.3 | To modify the special permit to authorize reheat treatment of lots of rejected cylinders when the construction materials do not pass pressure and flattening tests.
9884-M |  | Covidien (formerly Tyco Healthcare), Plainfield, IN | 49 CFR 173.3 16 | To modify the special permit to authorize brazing of withdrawal tubes rather than welding.
11725-M |  | ATK Space (formerly Swales Aerospace, Inc.), Beltsville, MD | 49 CFR 173.34(d); 173.40; 173.301; 173.302(a); 173.304(a)(2); 175.3 | To modify the special permit to authorize the transportation in commerce of an additional Class 3 and Class 9 hazardous material.
11818-M |  | ATK Space (formerly Swales Aerospace, Inc.), Beltsville, MD | 49 CFR 180.205 | To modify the special permit to authorize the transportation in commerce of an additional Class 3 material.
12296-M | RSPA-99-5879 | Clean Earth Systems, Inc., Tampa, FL | 49 CFR 173.12(b)(2)(i) | To modify the special permit to authorize an alternative outer packaging for lab packs.
14457-M | PHMSA-07-26878 | Amtrol Alfa Metalomecanica SA, Portugal | 49 CFR 173.304a(a)(1); 175.3 | To modify the special permit to authorize the manufactured cylinders to be used as recovery cylinders for the materials authorized in the special permit.
14659-M | PHMSA-08-0056 | ESM Group Inc., Amherst, NY | 49 CFR 173.242 (b) and (c) | To reissue the special permit originally issued on an emergency basis for the transportation in commerce of calcium carbide (UN 1402), Division 4.1, PG I in non-DOT specification bulk containers by motor vehicle.

[FR Doc. E8-13744 Filed 6-18-08; 8:45 am]

BILLING CODE 4909-60-M